Title 3—

The President

Memorandum of February 8, 2018

Delegation of Certain Functions and Authorities Under Section 1252 of the National Defense Authorization Act for Fiscal Year 2017

Memorandum for the Secretary of State [and] the Secretary of Defense

By the authority vested in me as President by the Constitution and the laws of the United States of America, including section 301 of title 3, United States Code, I hereby delegate to the Secretary of State, in coordination with the Secretary of Defense, the functions and authorities vested in the President by section 1252 of the National Defense Authorization Act for Fiscal Year 2017 (Public Law 114-328).

The delegation in this memorandum shall apply to any provisions of any future public law that are the same or substantially the same as the provision referenced in this memorandum.

The Secretary of State is authorized and directed to publish this memorandum in the Federal Register.

THE WHITE HOUSE,

Washington, February 8, 2018

[FR Doc. 2018-04252

Filed 2-27-18; 11:15 am]

Billing code 4710-10-P